DEPARTMENT OF ENERGY

Federal Energy Regulatory Commission

[Docket No. ER00-2572-000]

Western Resources, Inc. and Kansas Gas and Electric Company; Notice of Filing

June 13, 2000.

Take notice that on May 23, 2000, Western Resources, Inc., tendered for filing notice that effective June 1, 2000 Exhibit D designated as Supplement No. 28 to Kansas Gas and Electric Company's FERC Electric Rate Schedule No. 183 (Electric Power, Transmission and Service Contract between Kansas Gas and Electric Company and Kansas Electric Power Cooperative, Inc., dated May 26, 1993) is to be canceled.

Notice of the proposed cancellation has been served upon KEPCo and the Kansas Corporation Commission.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before June 23, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-15355 Filed 6-16-00; 8:45 am]

BILLING CODE 6717-01-M